DEPARTMENT OF ENERGY

Federal Energy Regulatory Commission

[Docket No. RP02-378-000]

Texas Gas Transmission Corporation; Notice of Technical Conference

September 10, 2002.

In the Commission's order issued on July 31, 2002,¹ the Commission directed that a technical conference be held to address issues raised by the filing.

¹ Texas Gas Transmission Corporation, 100 FERC 61,126 (2002).

Take notice that the technical conference will be held on Wednesday, September 25, 2002 at 10 a.m., in a room to be designated, at the offices of the Federal Energy Regulatory Commission, 888 First Street, NE., Washington, DC 20426.

All interested parties and Staff are permitted to attend.

Linwood A. Watson, Jr.,
Deputy Secretary.

[FR Doc. 02-23448 Filed 9-13-02; 8:45 am]

BILLING CODE 6717-01-P